ENVIRONMENTAL PROTECTION AGENCY

40 CFR Part 52

[R05-OAR-2004-IN-0001; FRL-7930-9]

Approval and Promulgation of Implementation Plans; Indiana

AGENCY: Environmental Protection Agency (EPA).

ACTION: Direct final rule.

SUMMARY: On July 9, 2002, the Indiana Department of Environmental Management (IDEM) submitted a request that EPA approve a revision to its process weight rate rule into the Indiana State Implementation Plan (SIP). The revision clarifies rule applicability, corrects incorrect weights presented in the process weight rate table included in the rule, allows certain sources to demonstrate compliance with the rule by adopting and substituting work standard practices, clarifies the definitions of particulate and particulate matter, and reduces duplicative recordkeeping requirements contained in the rule. EPA is approving the State's request.

DATES: This “direct final” rule is effective on September 23, 2005, unless EPA receives adverse written comments by August 24, 2005. If EPA receives adverse comment, it will publish a timely withdrawal of the rule in the Federal Register and inform the public that the rule will not take effect.

Submit comments, identified by Regional Material in EDocket (RME) ID No. R05-OAR-2004-IN-0001, by one of the following methods: Federal eRulemaking Portal: http://www.regulations.gov. Follow the on-line instructions for submitting comments.

Agency Web site: http://docket.epa.gov/rmepub/. Regional RME, EPA's electronic public docket and comments system, is EPA's preferred method for receiving comments. Once in the system, select “quick search,” then key in the appropriate RME Docket identification number. Follow the on-line instructions for submitting comments.

E-mail: mooney.john@epa.gov.

Fax: (312) 886-5824.

Mail: You may send written comments to: John M. Mooney, Chief, Criteria Pollutant Section, (AR-18J), U.S. Environmental Protection Agency, 77 West Jackson Boulevard, Chicago, Illinois 60604.

Hand delivery: Deliver your comments to: John M. Mooney, Chief, Criteria Pollutant Section, (AR-18J), U.S. Environmental Protection Agency, Region 5, 77 West Jackson Boulevard, 18th floor, Chicago, Illinois 60604.

Such deliveries are only accepted during the Regional Office's normal hours of operation. The Regional Office's official hours of business are Monday through Friday, 8:30 a.m. to 4:30 p.m. excluding Federal holidays.

Instructions: Direct your comments to RME ID No. R05-OAR-2004-IN-0001. EPA's policy is that all comments received will be included in the public docket without change, including any personal information provided, unless the comment includes information claimed to be Confidential Business Information (CBI) or other information whose disclosure is restricted by statute. Do not submit information that you consider to be CBI or otherwise protected through RME, regulations.gov, or e-mail. The EPA RME Web site and the federal regulations.gov Web site are “anonymous access” systems, which means EPA will not know your identity or contact information unless you provide it in the body of your comment. If you send an e-mail comment directly to EPA without going through RME or regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of the related proposed rule which is published in the Proposed Rules section of this Federal Register.

Docket: All documents in the electronic docket are listed in the RME index at http://docket.epa.gov/rmepub/. Although listed in the index, some information is not publicly available, i.e., CBI or other information whose disclosure is restricted by statute. Publicly available docket materials are available either electronically in RME or in hard copy at Environmental Protection Agency, Region 5, Air and Radiation Division, 77 West Jackson Boulevard, Chicago, Illinois 60604. We recommend that you telephone Christos Panos, Environmental Engineer, at (312) 353-8328 before visiting the Region 5 office. This Facility is open from 8:30 a.m. to 4:30 p.m., Monday through Friday, excluding legal holidays.

FOR FURTHER INFORMATION CONTACT: Christos Panos, Environmental Engineer, Criteria Pollutant Section, Air Programs Branch (AR-18J), U.S. Environmental Protection Agency, Region 5, 77 West Jackson Boulevard, Chicago, Illinois 60604, (312) 353-8328; panos.christos@epa.gov.

SUPPLEMENTARY INFORMATION:

I. General Information

A. Does This Action Apply to Me?

B. How Can I Get Copies of This Document and Other Related Information?

C. How and To Whom Do I Submit Comments?

II. What Is the Background for This Action?

III. What Changes Did the State Include in This Sip Revision Request and What Is EPA's Analysis of These Revisions?

IV. Rulemaking Action

V. Did Indiana Hold a Public Hearing?

VI. Statutory and Executive Order Reviews

I. General Information

A. Does This Action Apply to Me?

This action is rulemaking on a revision to the process weight rate rules in the Indiana SIP. The rules establish limitations for particulate emissions from manufacturing processes in Indiana.

B. How Can I Get Copies of This Document and Other Related Information?

1. The Regional Office has established an electronic public rulemaking file available for inspection at RME under ID No. R05-OAR-2004-IN-0001, and a hard copy file which is available for inspection at the Regional Office. The official public file consists of the documents specifically referenced in this action, any public comments received, and other information related to this action. Although a part of the official docket, the public rulemaking file does not include CBI or other information whose disclosure is restricted by statute. The official public rulemaking file is the collection of materials that is available for public viewing at the Air Programs Branch, Air and Radiation Division, EPA Region 5, 77 West Jackson Boulevard, Chicago, Illinois 60604. EPA requests that, if at all possible, you contact the person listed in the FOR FURTHER INFORMATION CONTACT section to schedule your inspection. The Regional Office's official hours of business are Monday through Friday, 8:30 a.m. to 4:30 p.m. excluding Federal holidays.

2. Electronic Access. You may access this Federal Register document electronically through the regulations.gov Web site located at http://www.regulations.gov where you can find, review, and submit comments on Federal rules that have been published in the Federal Register, the Government's legal newspaper, and that are open for comment.

For public commenters, it is important to note that EPA's policy is that public comments, whether submitted electronically or in paper, will be made available for public viewing at the EPA Regional Office, as EPA receives them and without change, unless the comment contains copyrighted material, CBI, or other information whose disclosure is restricted by statute. When EPA identifies a comment containing copyrighted material, EPA will provide a reference to that material in the version of the comment that is placed in the official public rulemaking file. The entire printed comment, including the copyrighted material, will be available at the Regional Office for public inspection.

C. How and To Whom Do I Submit Comments?

You may submit comments electronically, by mail, or through hand delivery/courier. To ensure proper receipt by EPA, identify the appropriate rulemaking identification number by including the text “Public comment on proposed rulemaking Region 5 Air Docket R05-OAR-2004-IN-0001” in the subject line on the first page of your comment. Please ensure that your comments are submitted within the specified comment period. Comments received after the close of the comment period will be marked “late.” EPA is not required to consider these late comments.

For detailed instructions on submitting public comments and on what to consider as you prepare your comments see the ADDRESSES section and the section I General Information of the SUPPLEMENTARY INFORMATION section of the related proposed rule which is published in the Proposed Rules section of this Federal Register.

II. What Is the Background for This Action?

On July 9, 2002, the State of Indiana submitted a requested revision to the Indiana SIP. These amendments concern Title 326 of the Indiana Administrative Code (326 IAC) 6-3, the State's process weight rate rule. The main purposes of the rule amendments were to:

(1) Clarify rule applicability by narrowing the definition of “process” to manufacturing processes and by expanding the list of exempted sources;

(2) Correct incorrect weights presented in the process weight rate table included in this rule;

(3) Substitute work standard practices for surface coating manufacturing processes instead of demonstrating compliance with the emission factor derived from the process weight rate table;

(4) Clarify the definitions of “particulate” and “particulate matter”; and

(5) Reduce duplicative record keeping requirements.

These changes are discussed in greater detail below.

III. What Changes Did the State Include in This Sip Revision Request and What Is EPA's Analysis of These Revisions?

Rule 326 IAC 6-3-1 Applicability

In section 1(a), the new term “manufacturing processes” has been substituted for the term “process operations” in the earlier version of the rule. The term “manufacturing processes” is defined to consist of processes that are associated with the production of a product, as opposed to things such as maintenance and housekeeping activities.

This definition change clarifies IDEM's original intent in promulgating the rule. Thus, “manufacturing process” encompasses all of the sources and activities of the former definition of “process.” The State made this change to increase the rule's precision and to distinguish the term “manufacturing process” from the term “process” in 326 IAC 1-2-58. This revision will neither add to nor delete sources that are currently subject to 326 IAC Article 6.

Section 1(b) adds additional manufacturing process exemptions for the following sources: (1) For dip coating, roll coating, flow coating and brush coating processes subject to the requirements of 326 IAC 11-1, (2) for welding using less than 635 pounds of rod or wire per day, (3) for torch cutting using less than 3,400 inches per hour of stock one inch or less in diameter, (4) for noncontact cooling tower systems, (5) for applications of aerosol coating products used to repair minor surface damage and imperfections, (6) for trivial activities as defined in 326 IAC 2-7-1(40),¹ (7) for manufacturing processes with potential emissions less than .0551 pounds per hour, and (8) for surface coating manufacturing processes not listed in (1) above that use less than 5 gallons per day.

¹ This section defines particulate matter emissions with an aerodynamic diameter less than or equal to ten (10) micrometers (PM10) and potential uncontrolled emissions that are equal to or less than one (1) pound per day as trivial.

All but five of these exemptions are for sources whose emissions Indiana considers to be “de minimis,” i.e., with potential emissions less than 0.551 pound/hour. Combustion for indirect heating, incineration, open burning and foundry cupolas are regulated in other sections of the SIP. According to IDEM, noncontact cooling tower systems are inherently compliant under the equation used to determine emission rates in 326 IAC 6-3-2(e).

Revised Section 1(c) states that Rule 326 IAC 6-3-1 shall not apply if a particulate matter limitation established in a new source permit or other rule is more stringent.

326 IAC 6-3-1.5 Definitions

This new section of this rule contains definitions for “aerosol coating products,” “manufacturing process,” “particulate,” “particulate matter” and “surface coating.” These definitions are to be used if there is a conflict between 326 IAC 6-3 and 326 IAC 1-2.

326 IAC 6-3-2 Particulate Emission Limitations, Work Practices, and Control Technologies

Revised Section 2(a) states that any manufacturing process listed in subsections (b) through (d) shall follow the stated work practices and control technologies. All other manufacturing processes subject to rule 326 IAC 6-3 shall calculate emission limitations according to requirements in subsection(e). Subsection (a) also provides for the calculation of a particulate emission limit based on the following equation: E=8.6P^0.67 for cement manufacturing kilns commencing operation prior to December 6, 1968 and with process weight equal to or below 30 tons per hour. If process weight is greater than 30 tons per hour, the emission limit is based on the following equation: E=15.0P^0.50, where E is the Emission rate in pounds per hour and P is the process weight rate in tons per hour.

Revised Section 2(c) provides that catalytic cracking units commencing operation prior to December 6, 1968 and equipped with cyclone separators, electrostatic precipitators or other gas-cleaning systems shall recover 99.97% or more of the circulating catalyst or total gas-borne particulate.

Revised Section 2(d) provides that surface coating, reinforced plastics composites fabricating manufacturing processes and graphic arts manufacturing processes shall be controlled by a dry particulate filter, waterwash, or an equivalent control device subject to: (1) Operation in accordance with manufacturer's specifications; and (2) if overspray is visibly detected at the exhaust or accumulates on the ground, the source shall inspect the control device and either repair it or operate it so that no overspray is visibly detectable. If overspray is detected, the source shall maintain a record of the action taken as a result of the inspection, any repairs of the control device, or change in operations so that overspray is not visibly detected. These records must be maintained for 5 years. The significant change in 2(d) is that the rule acknowledges that if overspray is detected a repair may be unnecessary, where an operating change can eliminate the overspray.

Revised Section 2(d)(3) exempts sources from the requirements of Section 2(d)(2) so long as they operate according to a valid permit issued under 326 IAC 2-7, 326 IAC 2-8 or 326 IAC 2-9.

Revised Section 2(d)(4) exempts surface coating manufacturing processes that use less than five gallons of coating per day, as defined in 326 IAC 1(b)(15) of this rule. If coating application rates increase to greater than five gallons per day, at any time, control devices must be in place. A manufacturing process that is subject to this subsection shall remain subject to it notwithstanding any subsequent decrease in gallons of coating used.

Revised Section 2(e) provides that manufacturing processes, to which control measures listed in subsections (b) through (d) above do not apply, shall calculate allowable emissions utilizing the process weight rate table incorporated in this subsection of the rule. The allowable rate of emission shall be based on the process weight rate for a manufacturing process. When the process weight rate is less than 100 pounds per hour, the allowable rate of emissions is 0.551 pound per hour. When the process weight rate exceeds 200 tons per hour, the allowable emission may exceed that shown in the table, provided the concentration of particulate in the discharge gasses to the atmosphere is less than 0.10 pound per 1,000 pounds of gasses.

EPA has reviewed these rule revisions and determined that incorporating them into the Indiana SIP is appropriate. The changes made to the rules are minor in scope. They clarify rule applicability, correct incorrect weights presented in the process weight rate table included in the rule, allow certain sources to demonstrate compliance with the rule by adopting and substituting work standard practices, clarify the definitions of particulate and particulate matter, and reduce duplicative record keeping requirements contained in the rule.

Indiana did not intend for low-emitting processes to be subject to the original process weight rule. These source do not jeopardize the PM National Ambient Air Quality Standards, nor are they subject to Prevention of Significant Deterioration, New Source Review, or other State permitting requirements. Applying this rule to such small sources would impose unreasonable administrative and compliance burdens on these sources.

IV. Rulemaking Action

For the reasons stated above, EPA approves the incorporation into the Indiana SIP of 326 IAC 6-3-1, 6-3-1.5 and 6-3-2. We are publishing this action without prior proposal because we view this as a noncontroversial amendment and anticipate no adverse comments. However, in the proposed rules section of this Federal Register publication, we are publishing a separate document that will serve as the proposal to approve the state plan if relevant adverse written comments are filed. This rule will be effective September 23, 2005 without further notice unless we receive relevant adverse written comments by August 24, 2005. If we receive such comments, we will withdraw this action before the effective date by publishing a subsequent document that will withdraw the final action. All public comments received will then be addressed in a subsequent final rule based on the proposed action. The EPA will not institute a second comment period. Any parties interested in commenting on this action should do so at this time. If we do not receive any comments, this action will be effective September 23, 2005.

V. Did Indiana Hold a Public Hearing?

The State of Indiana Air Pollution Control Board (Board) held three public hearings on these rule revisions. Four commenters provided testimony at the first public hearing held on April 12, 2001. Seven commenters provided testimony at the second public hearing held on August 1, 2001. These comments led to revisions of the rule which was then presented to the Board for final adoption at the third public hearing held on February 6, 2002. Although two commenters provided testimony at this hearing, the Board determined that these comments were previously addressed and warranted no further action.

VI. Statutory and Executive Order Reviews

Executive Order 12866; Regulatory Planning and Review

Under Executive Order 12866 (58 FR 51735, October 4, 1993), this action is not a “significant regulatory action” and therefore is not subject to review by the Office of Management and Budget.

Executive Order 13211: Actions That Significantly Affect Energy Supply, Distribution, or Use

Because it is not a “significant regulatory action” under Executive Order 12866 or a “significant energy action,” this action is also not subject to Executive Order 13211, “Actions Concerning Regulations That Significantly Affect Energy Supply, Distribution, or Use” (66 FR 28355, May 22, 2001).

Regulatory Flexibility Act

This action merely approves state law as meeting Federal requirements and imposes no additional requirements beyond those imposed by state law. Accordingly, the Administrator certifies that this rule will not have a significant economic impact on a substantial number of small entities under the Regulatory Flexibility Act (5 U.S.C. 601 et seq.).

Unfunded Mandates Reform Act

Because this rule approves pre-existing requirements under state law and does not impose any additional enforceable duty beyond that required by state law, it does not contain any unfunded mandate or significantly or uniquely affect small governments, as described in the Unfunded Mandates Reform Act of 1995 (Pub. L. 104-4).

Executive Order 13175 Consultation and Coordination With Indian Tribal Governments

This rule also does not have tribal implications because it will not have a substantial direct effect on one or more Indian tribes, on the relationship between the Federal Government and Indian tribes, or on the distribution of power and responsibilities between the Federal Government and Indian tribes, as specified by Executive Order 13175 (59 FR 22951, November 9, 2000).

Executive Order 13132 Federalism

This action also does not have federalism implications because it does not have substantial direct effects on the states, on the relationship between the National Government and the states, or on the distribution of power and responsibilities among the various levels of government, as specified in Executive Order 13132 (64 FR 43255, August 10, 1999). This action merely approves a state rule implementing a federal standard, and does not alter the relationship or the distribution of power and responsibilities established in the Clean Air Act.

Executive Order 13045 Protection of Children From Environmental Health and Safety Risks

This rule also is not subject to Executive Order 13045 “Protection of Children from Environmental Health Risks and Safety Risks” (62 FR 19885, April 23, 1997), because it is not economically significant.

National Technology Transfer Advancement Act

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply.

Paperwork Reduction Act

This rule does not impose an information collection burden under the provisions of the Paperwork Reduction Act of 1995 (44 U.S.C. 3501 et seq.).

Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by September 23, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: June 16, 2005.
Margaret Guerriero,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(160) to read as follows:

§ 52.770 Identification of plan.

* * * * *

(c) * * *

(160) On July 9, 2002, Indiana submitted revised process weight rate rules as a requested revision to the Indiana State Implementation Plan. The changes clarify rule applicability, correct errors in the process weight rate table, allow sources to substitute work standard practices instead of the process weight rate table. They clarify the definitions of particulate and particulate matter. They also reduce duplicative recordkeeping.

(i) Incorporation by reference.

(A) Indiana Administrative Code Title 326: Air Pollution Control Board, Article 6: Particulate Rules Rule 3: Particulate Emission Limitations for Manufacturing Process. 6-3-1 Applicability, 6-3-1.5 Definitions and 6-3-2 Particulate emission limitations, work practices, and control technologies. Adopted by the Indiana Air Pollution Control Board on February 6, 2002. Filed with the Secretary of State May 13, 2002, effective June 12, 2002.

[FR Doc. 05-14601 Filed 7-22-05; 8:45 am]

BILLING CODE 6560-50-P